DEPARTMENT OF HEALTH AND HUMAN SERVICES

National Institutes of Health

National Institute of Environmental Health Sciences; Notice of Meetings

Pursuant to section 10(a) of the Federal Advisory Committee Act, as amended (5 U.S.C. Appendix 2), notice is hereby given of a meeting of the Interagency Breast Cancer and Environmental Research Coordinating Committee Research Translation, Dissemination, and Policy Implications Subcommittee.

These meetings will be open to the public, with attendance limited to space available. Individuals who plan to attend and need special assistance or reasonable accommodations, should inform the Contact Person listed below at least 10 days in advance of the meeting.

Name of Committee: Interagency Breast Cancer and Environmental Research Coordinating Committee (IBCERC) Research Translation, Dissemination, and Policy Implications Subcommittee.

Date: March 18, 2011.

Time: 1 p.m. to 4 p.m.

Agenda: The purpose of the meeting is to continue the work of the Research Translation, Dissemination, and Policy Implications Subcommittee as it addresses a broad set of objectives related to the overall mandate of the IBCERC including: increasing public participation in decisions relating to breast cancer research by increasing the involvement of patient advocacy and community organizations representing a broad geographical area and creating models for dissemination of information regarding the progress of breast cancer research. The meeting agenda will be available on the Web at http://www.niehs.nih.gov/about/orgstructure/boards/ibcercc/.

Place: Conference Call: This meeting will be conducted remotely, via conference call. To attend the meeting, please RSVP via e-mail to ibcercc@niehs.nih.gov at least 10 days in advance and instructions for joining the meeting will be provided.

Contact Person: Gwen W. Collman, PhD, Director, Division of Extramural Research and Training, National Institute of Environmental Health Sciences, 615 Davis Dr., KEY615/3112, Research Triangle Park, NC 27709, (919) 541-4980, collman@niehs.nih.gov.

Name of Committee: Interagency Breast Cancer and Environmental Research Coordinating Committee (IBCERC) Research Translation, Dissemination, and Policy Implications Subcommittee.

Date: April 15, 2011.

Time: 1 p.m. to 4 p.m.

Agenda: The purpose of the meeting is to continue the work of the Research Translation, Dissemination, and Policy Implications Subcommittee as it addresses a broad set of objectives related to the overall mandate of the IBCERC including: increasing public participation in decisions relating to breast cancer research by increasing the involvement of patient advocacy and community organizations representing a broad geographical area and creating models for dissemination of information regarding the progress of breast cancer research. The meeting agenda will be available on the Web at http://www.niehs.nih.gov/about/orgstructure/boards/ibcercc/.

Place: Conference Call: This meeting will be conducted remotely, via conference call. To attend the meeting, please RSVP via e-mail to ibcercc@niehs.nih.gov at least 10 days in advance and instructions for joining the meeting will be provided.

Contact Person: Gwen W. Collman, PhD, Director, Division of Extramural Research and Training, National Institute of Environmental Health Sciences, 615 Davis Dr., KEY615/3112, Research Triangle Park, NC 27709, (919) 541-4980, collman@niehs.nih.gov.

Name of Committee: Interagency Breast Cancer and Environmental Research Coordinating Committee (IBCERC) Research Translation, Dissemination, and Policy Implications Subcommittee.

Date: May 2, 2011.

Time: 1 p.m. to 4 p.m.

Agenda: The purpose of the meeting is to continue the work of the Research Translation, Dissemination, and Policy Implications Subcommittee as it addresses a broad set of objectives related to the overall mandate of the IBCERC including: increasing public participation in decisions relating to breast cancer research by increasing the involvement of patient advocacy and community organizations representing a broad geographical area and creating models for dissemination of information regarding the progress of breast cancer research. The meeting agenda will be available on the Web at http://www.niehs.nih.gov/about/orgstructure/boards/ibcercc/.

Place: Conference Call: This meeting will be conducted remotely, via conference call. To attend the meeting, please RSVP via e-mail to ibcercc@niehs.nih.gov at least 10 days in advance and instructions for joining the meeting will be provided.

Contact Person: Gwen W. Collman, PhD, Director, Division of Extramural Research and Training, National Institute of Environmental Health Sciences, 615 Davis Dr., KEY615/3112, Research Triangle Park, NC 27709, (919) 541-4980, collman@niehs.nih.gov.

Any member of the public interested in presenting oral comments to the committee should submit their remarks in writing at least 10 days in advance of the meeting. Comments in document format (i.e. WORD, Rich Text, PDF) may be submitted via e-mail to ibcercc@niehs.nih.gov or mailed to the Contact Person listed on this notice. You do not need to attend the meeting in order to submit comments.

(Catalogue of Federal Domestic Assistance Program Nos. 93.115, Biometry and Risk Estimation Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: February 4, 2011.
Jennifer S. Spaeth,
Director, Office of Federal Advisory Committee Policy.

[FR Doc. 2011-3001 Filed 2-9-11; 8:45 am]

BILLING CODE 4140-01-P